ENVIRONMENTAL PROTECTION AGENCY

[EPA-HQ-OPP-2023-0428; FRL-11111-02-OCSPP]

Pesticides; Petition Seeking Rulemaking for Registration of Neonicotinoid Insecticides and Other Systemic Insecticides; Notice of Availability and Request for Comment; Extension of Comment Period

AGENCY: Environmental Protection Agency (EPA).

ACTION: Notice; extension of comment period.

SUMMARY: In the Federal Register of November 24, 2023, EPA announced the availability of and solicited comment on a petition received from the Public Employees for Environmental Responsibility (PEER) and the American Bird Conservancy (ABC) requesting that the Agency initiate a rulemaking for neonicotinoid insecticides and other systemic insecticides. This document extends the comment period, which was scheduled to end on January 23, 2024, to March 25, 2024.

DATES: The comment period for the document published in the Federal Register of November 24, 2023, at 88 FR 82286 (FRL-11111-01-OCSPP) is extended. Comments must be received on or before March 25, 2024.

ADDRESSES: Submit your comments, identified by docket identification (ID) number EPA-HQ-OPP-2023-0428, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Caleb Hawkins, Office of Pesticide Programs, Environmental Protection Agency, 1200 Pennsylvania Ave. NW, Washington, DC 20460-0001; main telephone number: (202) 566-1430; email address: Hawkins.caleb@epa.gov.

SUPPLEMENTARY INFORMATION: To give stakeholders additional time to review materials and prepare comments, EPA is hereby extending the comment period established in the Federal Register document of November 24, 2023, at 88 FR 82286 (FRL-11111-01-OCSPP) from January 23, 2024, to March 25, 2024. More information on the action can be found in the Federal Register of November 24, 2023.

To submit comments or access the docket, please follow the detailed instructions provided under ADDRESSES. If you have questions, consult the technical person listed under FOR FURTHER INFORMATION CONTACT.

Authority: 7 U.S.C. 136 et seq.

Dated: January 8, 2024.
Michal Freedhoff,
Assistant Administrator, Office of Chemical Safety and Pollution Prevention.

[FR Doc. 2024-00518 Filed 1-11-24; 8:45 am]

BILLING CODE 6560-50-P